DEPARTMENT OF COMMERCE

National Oceanic and Atmospheric Administration

50 CFR Part 600

[I.D. 121603A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Assistant Regional Administrator for Sustainable Fisheries, Northeast Region, NOAA Fisheries (Assistant Regional Administrator), has determined that an application for EFPs contains all of the required information and warrants further consideration. The Assistant Regional Administrator is considering the impacts of the activities to be authorized under the EFPs with respect to the Northeast (NE) Multispecies Fishery Management Plan (FMP). However, further review and consultation may be necessary before a final determination is made to issue EFPs. Therefore, NMFS announces that the Assistant Regional Administrator proposes to issue EFPs in response to an application submitted by the Cape Cod Commercial Hook Fisherman's Association (CCCHFA), in collaboration with Massachusetts Division of Marine Fisheries (DMF), and Research, Environmental and Management Support (REMSA). These EFPs would allow up to 17 vessels to fish for haddock using longline gear or jig gear in NE multispecies year-round Georges Bank (GB) Closed Area I (CA I) during the months of January, February, and May through September 2004. The purpose of this study is to evaluate the best spatial and temporal location for a directed haddock hook-gear fishery in GB CA I, while having minimal impact to GB cod. This information could then be used by the New England Fishery Management Council and NMFS to determine the feasibility of establishing a Special Access Program for traditional haddock hook-and-line fishery in CA I.

DATES: Comments on this action must be received at the appropriate address or fax number (see ADDRESSES) on or before January 8, 2004.

ADDRESSES: Written comments should be sent to Patricia A. Kurkul, Regional Administrator, NMFS, NE Regional Office, 1 Blackburn Drive, Gloucester, MA 01930. Mark the outside of the envelope “Comments on Haddock EFP Proposal.” Comments may also be sent via fax to (978) 281-9135. Comments will not be accepted if submitted via e-mail or the Internet.

Copies of the Environmental Assessment (EA) are available from the NE Regional Office at the same address.

FOR FURTHER INFORMATION CONTACT: Heather Sagar, Fishery Management Specialist, phone: 978-281-9341, fax: 978-281-9135, e-mail: heather.sagar@noaa.gov

SUPPLEMENTARY INFORMATION:

Background

Three year-round closed areas were established in 1994 under Amendment 5 to the FMP to provide protection to concentrations of regulated NE multispecies, particularly cod, haddock, and yellowtail flounder. These closure areas, CA I, CA II, and the Nantucket Lightship Closure Area, have proven to be effective in improving the stock status of several species, including GB haddock.

In their EFP application, the applicants state that cod are less available than haddock in certain portions of CA I, and propose to support this observation with scientific data, potentially enabling the GB haddock resource to be utilized without impacting the management program that protects GB cod. This request builds upon data collected by the same applicant under an approved EFP that began October 1, 2003, which will continue through December 31, 2003. Preliminary results from the initial study demonstrate the viability of utilizing hook-and-line gear to reduce bycatch of cod in a portion of CA I.

Proposed EFP

The proposed study would occur in a specified area within the northern portion of CA I (north of loran-C line 13660). The experiment would occur during the months of January, February, and May through September 2004, during which 20 1-day trips would occur monthly, for a total of 140 1-day trips for the study. Fishing would be prohibited during the months of March and April to protect spawning haddock in this area. Vessels would not be exempt from days-at-sea. Participating vessels would be prohibited from fishing in areas outside of CA I during an experimental fishing trip. This study would follow normal fishing practices. A total allowable catch (TAC) of 16 mt for GB cod and 285 mt for GB haddock (divided into seasonal TACs specified below) would be established for the experimental fishery. The experimental fishery would be closed down if either the total TAC or the seasonal TAC is exceeded. This study would be divided into three seasonal periods, with individual hard TACs established for each season as follows:

MONTH | DAYS | HADDOCK | COD
Seasonal Period I
January February | 20 20 | 81 mt (179,468 lb) | 4.6 mt (10,076 lb)
March | 0 | 0 | 0
April | 0 | 0 | 0
Seasonal Period II
May June July | 20 20 10 | 102 mt (224,355 lb) | 5.7 mt (12,595 lb)
Seasonal Period III
July August September | 10 20 20 | 102 mt (224,335 lb) | 5.7 mt (12,595 lb)

All fish landed would be subject to the minimum fish size. Although the applicant would be exempt from the haddock trip limits, they would not be exempt from the cod trip limit requirements.

REMSA scientific staff would be present on board each participating vessel, equating to 100-percent scientific data collector coverage for this experimental fishery. The EFPs would contain a provision that the Regional Administrator has the authority to discontinue the proposed experimental fishery on at any time, e.g., the Regional Administrator would terminate the EFP should the individual season TACs, or the overall TACs of 16 mt for GB cod and 285 mt for GB haddock, be exceeded.

A draft EA has been prepared that analyzes the impacts of the proposed experimental fishery on the human environment. This draft EA concludes that the activities proposed to be conducted under the requested EFPs are consistent with the goals and objectives of the FMP, would not be detrimental to the well-being of any stocks of fish harvested, and would have no significant environmental impacts. The draft EA also concludes that the proposed experimental fishery would not be detrimental to Essential Fish Habitat, marine mammals, or protected species.

EFPs would be issued to up to 17 vessels exempting them from the CA I, the haddock trip limit, and the 3,600-hook-limit restrictions of the FMP.

Regulations under the Magnuson-Stevens Fishery Conservation and Management Act require publication of this notification to provide interested parties the opportunity to comment on applications for proposed EFPs.

Authority: 16 U.S.C. 1801 et seq.

Dated: December 17, 2003.
Bruce C. Morehead,
Acting Director, Office of Sustainable Fisheries, National Marine Fisheries Service.

[FR Doc. 03-31612 Filed 12-23-03; 8:45 am]

BILLING CODE 3510-22-S